DEPARTMENT OF TRANSPORTATION

Federal Aviation Administration

[Docket No FAA-2012-22842]

Notice of Opportunity To Participate, Criteria Requirements and Application Procedure for Participation in the Military Airport Program (MAP)

AGENCY: Federal Aviation Administration (FAA), Department of Transportation (DOT).

ACTION: Notice of criteria and application procedures for designation or redesignation, in the Military Airport Program (MAP), for the fiscal year 2012.

SUMMARY: This notice supplements the Federal Register Notice of September 22, 2011 and implements Military Airport Program (MAP) changes in the Federal Aviation Administration Modernization and Reform Act of 2012, Public Law 112-91, February 14, 2012. This supplementary notice announces the criteria, application procedures, and schedule to be applied by the Secretary of Transportation in designating or redesignating, and funding capital development annually for up to 3 current (joint-use) or former military general aviation airports seeking designation or redesignation to participate in the MAP. Of the 15 current (joint-use) or former MAP slots the new legislation permits up to 3 general aviation airports to be selected for the program. Applicants who previously submitted applications based on the September 22, 2011 Federal Register notice do not need to reapply. Their applications will be considered for Fiscal Year 2012 MAP along with any applications received from additional general aviation airports as a result of this supplemental notice.

The MAP allows the Secretary to designate current (joint-use) or former military airports to receive grants from the Airport Improvement Program (AIP).

The Secretary is authorized to designate an airport (other than an airport designated before August 24, 1994) only if:

(1) The airport is a former military installation closed or realigned under the Title 10 U.S.C. Sec. 2687 (announcement of closures of large Department of Defense installations after September 30, 1977), or under Section 201 or 2905 of the Defense Authorization Amendments and Base Closure and Realignment Acts; or

(2) the airport is a military installation with both military and civil aircraft operations.

The Secretary shall consider for designation only those current or former military airports, at least partly converted to civilian airports as part of the national air transportation system, that will reduce delays at airports with more than 20,000 hours of annual delays in commercial passenger aircraft takeoffs and landings, or will enhance airport and air traffic control system capacity in metropolitan areas, or reduce current and projected flight delays (49 U.S.C. 47118(c)).

DATES: Applications must be received on or before April 16, 2012.

ADDRESSES: Submit an original and two copies of Standard Form (SF) 424, “Application for Federal Assistance,” prescribed by the Office of Management and Budget Circular A-102, available at http://www.faa.gov/airports/resources/forms/media/aip_sf424_2010.pdf along with any supporting and justifying documentation. Applicant should specifically request to be considered for designation or redesignation as a general aviation airport to participate in the fiscal year 2012 MAP. Submission should be sent to the Regional FAA Airports Division or Airports District Office that serves the airport. Applicants may find the proper office on the FAA Web site http://www.faa.gov/airports_airtraffic/airports/regional_guidance/ or may contact the office below.

FOR FURTHER INFORMATION CONTACT: Mr. Kendall Ball (Kendall.Ball@faa.gov), Airports Financial Assistance Division (APP-500), Office of Airport Planning and Programming, Federal Aviation Administration (FAA), 800 Independence Avenue SW., Washington, DC 20591 (202) 267-7436.

SUPPLEMENTARY INFORMATION:

General Description of the Program

The MAP provides capital development assistance to civil airport sponsors of designated current (joint-use) military airfields or former military airports that are included in the FAA's National Plan of Integrated Airport Systems (NPIAS). Airports designated to the MAP may obtain funds from a set-aside (currently four percent) of AIP discretionary funds for airport development, including certain projects not otherwise eligible for AIP assistance. These airports are also eligible to receive grants from other categories of AIP funding.

Additional information required for application to the MAP may be found in the original Federal Register Notice Vol. 76, No. 184/Thursday, September 22, 2011/Notices Pg. 58861. The original notice may also be found at: http://www.gpo.gov/fdsys/pkg/FR-2011-09-22/html/2011-24350.htm.

This notice is issued pursuant to Title 49 U.S.C. 47118.

Issued at Washington, DC, on March 7, 2012.
Elliott Black,
Deputy Director, Office of Airport Planning and Programming.

[FR Doc. 2012-6350 Filed 3-14-12; 8:45 am]

BILLING CODE 4910-13-P